SOCIAL SECURITY ADMINISTRATION

[Docket No: SSA-2022-0009]

Agency Information Collection Activities: New Emergency Request

The Social Security Administration (SSA) publishes a list of information collection packages requiring clearance by the Office of Management and Budget (OMB) in compliance with Public Law 104-13, the Paperwork Reduction Act of 1995, effective October 1, 1995. This notice includes a new, emergency information collection.

SSA is asking OMB for approval of this information collection fourteen days after the date of publication of this Federal Register Notice, independent of public comment, due to its emergency nature. However, we still welcome comment on the accuracy of the agency's burden estimate; the need for the information; its practical utility; ways to enhance its quality, utility, and clarity; and ways to minimize burden on respondents, including the use of automated collection techniques or other forms of information technology. We will consider any comments when we ultimately extend this information collection beyond the standard six-month emergency approval. Mail, email, or fax your comments and recommendations on the information collection(s) to the OMB Desk Officer and SSA Reports Clearance Officer at the following addresses or fax numbers.

(OMB) Office of Management and Budget, Attn: Desk Officer for SSA.

Comments: https://www.reginfo.gov/public/do/PRAMain. Submit your comments online referencing Docket ID Number [SSA-2022-0009].

(SSA) Social Security Administration, OLCA, Attn: Director, Office of Regulations and Reports Clearance, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0009]. We recommend submitting comments via this link as the fastest way for them to reach us.

SSA is submitting the information collection below to OMB for clearance. If you wish to submit comments, we recommend you do so no later than March 30, 2022. However, please be aware that due to the emergency nature of this collection, SSA will be seeking OMB clearance in advance of this date. Individuals may obtain copies of this OMB clearance package by writing to OR.Reports.Clearance@ssa.gov.

Electronic Protective Filing Tool—20 CFR 404.630, and 20 CFR 416.340-416.345—0960-NEW.

The COVID-19 pandemic limited the public's access to Social Security Administration (SSA) Field Offices (FOs), requiring SSA to rapidly modernize and improve online services available to the public. Since the beginning of the pandemic, underserved populations who have historically relied on in-office appointments and service decreased their submissions of Supplemental Security Income (SSI) claims. SSA uses the term “People facing barriers” to refer to these vulnerable populations, which include low-income individuals (especially those over age 65), the homeless, people with limited English proficiency, and disabled children.

Background

Historically, individuals contact SSA by phone, in person, or by mail to express interest in filing for benefits. Because same-day service to file an application is not always possible or individuals prefer to have an appointment, SSA technicians use eLAS (OMB No. 0960-0822) to set up appointments and record the protective filing date for potential claimants. This process ensures that potential claimants do not miss out on possible benefits due to the lack of same-day service.

Protective filing is the precursor to filing an application for benefits. Protective filing refers to the date by which SSA receives an individual's intent to file for Social Security benefits, Medicare Part A (Health Insurance), or SSI payments, which SSA then uses as the application date provided the individual files an application within a specific amount of time after that date. For instance, if an individual files an application for SSI payments within 60 days of the protective filing date, or an application for Social Security benefits within 6 months of the protective filing date, SSA uses the protective filing date as the application filing date. Thus, it is as if the application was filed on the day the individual contacted SSA to express interest in filing, which often results in SSA processing the application faster for that individual.

SSA developed an online tool to allow internet users to request an appointment to file an application for benefits and to establish a protective filing date with SSA. The electronic protective filing tool will allow individuals to submit information for the appointment request using a computing device, such as a personal computer or handheld (mobile) device instead of calling SSA by phone or visiting an FO. The tool will be available to potential claimants, as well as those individuals assisting them.

Information the Electronic Protective Filing Tool Will Collect

After entering the tool from a landing page, individuals begin on a welcome screen with a link to the Terms of Service and a link to the Privacy Act statement. Following review of the information on the welcome screen, the system will ask the individual to tell us whether they are answering these questions about themselves, or about another person. To do so, the system will present several options for individual to select from the categories of individuals who, under current regulations, can establish a protective filing date. The next screens ask for basic information about the individual who will be claiming benefits, or requesting SSI payments. Additionally, the tool will collect the name, phone number, and email address (optional) of the person submitting the information, if that person is different than the person who will be claiming benefits or SSI payments.

Once the system collects the data, it gives the individual the opportunity to review the information provided and electronically sign and submit the form. The system then transmits the information into eLAS and establishes a protective filing date. In addition, if the individual provided an email address(es), the electronic protective filing tool generates an email confirmation and sends it to the individual who will be claiming benefits or requesting SSI payments, and, if applicable, to the individuals submitting the appointment request on the claimant's behalf.

Subsequently, eLAS will notify SSA of the pending request, and an SSA technician will use the information submitted to schedule an appointment and send a notification of the date, time, and type of appointment to the individual who will be claiming benefits.

Need for Information Collection; Collection Methodology; How Information Will Be Used

To bridge the gap in services available to people facing barriers, SSA created a new online electronic protective filing tool that will allow individuals to request an appointment to file their application thereby establishing a protective filing date.

SSA will inform the public of the availability of the tool through various public outreach campaigns. Individuals will access the tool online through SSA's website, SSA.gov. The tool will allow individuals to submit basic information for the appointment request using a computing device, such as a personal computer or handheld (mobile) device instead of calling SSA by phone or visiting an FO. The electronic protective filing tool will be available to potential claimants, as well as those individuals assisting them.

Once the individual submits the requested information, the system will transmit the information into eLAS to document the protective filing date, and an SSA technician will schedule an appointment for an application interview.

The respondents are individuals requesting an appointment with an intent to file for Social Security benefits, Medicare Part A (Health Insurance), or SSI payments, or other third-party individuals helping claimants with the filing process.

Alternatives to Completing the Information Collection

Members of the public who prefer not to use the online version of this IC, or who do not have access to the internet, may continue to visit an FO, call SSA's 800 Number (or an FO), or write to SSA to establish a protective filing date for an application for benefits.

Need for Emergency Paperwork Reduction Act Approval

Based on the unexpected decrease in SSI claim submissions, mostly from people facing barriers, SSA is concerned this population needs more options and flexibility to help them apply for SSI. Our goal in developing this new SSI claims tool is to offer that flexibility, and to make it as easy as possible to complete the process. We are seeking emergency PRA approval because it is important to us to start offering this new tool to everyone, particularly underserved populations, as soon as we can. An emergency PRA approval would facilitate rapid rollout of the tool, and would mitigate the delay inherent in the extensive time period of the standard OMB approval cycle.

Type of Request: New (emergency) information collection.

Modality of completion | Number of respondents | Frequency of response | Average burden per response (minutes) | Estimated total annual burden (hours) | Average theoretical hourly cost amount (dollars) * | Total annual opportunity cost (dollars) **
Respondent Type 1 (ex: Potential Applicants) | 17,000 | 1 | 6 | 1,700 | * $27.07 | ** $46,019
Respondent Type 2 (ex: Professional Assistors) | 2,125 | 10 | 7 | 2,479 | * 25.09 | ** 62,198
Respondent Type 3 (ex: Attorney Representatives) | 2,125 | 2 | 7 | 496 | * 71.59 | ** 35,509
Totals | 21,250 |  |  | 4,675 |  | ** 143,726
* We based this figure on the average U.S. worker's hourly wages, as reported by Bureau of Labor Statistics data (https://www.bls.gov/oes/current/oes_nat.htm#00-0000), on average wages for Community and Social Service Organizations as reported by Bureau of Labor Statistics data (https://www.bls.gov/oes/current/oes210000.htm), and on average lawyer's hourly salary as reported by Bureau of Labor Statistics data (https://www.bls.gov/oes/current/oes231011.htm).
** This figure does not represent actual costs that SSA is imposing on recipients of Social Security payments to complete this online tool; rather, these are theoretical opportunity costs for the additional time respondents will spend to complete the tool. There is no actual charge to respondents to complete the online tool.

Dated: February 24, 2022.
Naomi Sipple,
Reports Clearance Officer, Social Security Administration.

[FR Doc. 2022-04301 Filed 2-25-22; 8:45 am]

BILLING CODE 4191-02-P